DEPARTMENT OF TRANSPORTATION

National Highway Traffic Safety Administration

[Docket No. NHTSA 2005-23169; Notice 2]

Cooper Tire & Rubber Company, Grant of Petition for Decision of Inconsequential Noncompliance

Cooper Tire & Rubber Company (Cooper) has determined that certain tires that it produced in 2005 do not comply with S4.3(a) of 49 CFR 571.109, Federal Motor Vehicle Safety Standard (FMVSS) No. 109, “New Pneumatic Tires” and with 49 CFR Part 574.5, “Tire Identification Requirements.” Pursuant to 49 U.S.C. 30118(d) and 30120(h), Cooper has petitioned for a determination that this noncompliance is inconsequential to motor vehicle safety and has filed an appropriate report pursuant to 49 CFR Part 573, “Defect and Noncompliance Reports.” Notice of receipt of a petition was published, with a 30-day comment period, on December 9, 2005 in the Federal Register (70 FR 73324). NHTSA received no comments.

Affected are a total of approximately 668 size 235/70R15 tires produced during the period January 9, 2005 through June 18, 2005. S4.3(a) and Part 574.5(b) require a tire identification number (TIN) on the tire which includes a size designation. The noncompliant tires were molded with the letters “4E” as the size designation. The correct stamping should have been “TY.”

Cooper believes that the noncompliance is inconsequential to motor vehicle safety and that no corrective action is warranted. Cooper states that the purpose of the TIN is to facilitate notifying consumers in the event of a recall. Cooper says that if it was required to notify purchasers, “the subject tires could be easily identified.”Cooper points out that the correct tire size is stamped on the sidewall, and the tires meet all other requirements of FMVSS No. 109 and 49 CFR 574.5.

NHTSA agrees with Cooper that the noncompliance is inconsequential to motor vehicle safety. As Cooper points out, the tires do not have sidewall markings which provide the correct size for the user of this information. In addition, the incorrect marking does not affect the ability to identify the tires in the event of recall. Cooper has corrected the problem.

In consideration of the foregoing, NHTSA has decided that the petitioner has met its burden of persuasion that the noncompliance described is inconsequential to motor vehicle safety. Accordingly, Cooper's petition is granted and the petitioner is exempted from the obligation of providing notification of, and a remedy for, the noncompliance.

(Authority: 49 U.S.C. 30118, 30120; delegations of authority at CFR 1.50 and 501.8)

Issued on January 20, 2006.
Daniel C. Smith,
Associate Administrator for Enforcement.

[FR Doc. 06-731 Filed 1-25-06; 8:45 am]

BILLING CODE 4910-59-M